NATIONAL SCIENCE FOUNDATION

Notice of Permit Applications Received Under the Antarctic Conservation Act of 1978

AGENCY: National Science Foundation (NSF).

ACTION: Notice of permit applications received under the Antarctic Conservation Act.

SUMMARY: The National Science Foundation (NSF) is required to publish notice of permit applications received to conduct activities regulated under the Antarctic Conservation Act of 1978. NSF has published regulations under the Antarctic Conservation Act at title 45 part 670 of the Code of Federal Regulations. This is the required notice of permit applications received.

Notice is hereby given that the National Science Foundation (NSF) has received three waste management permit applications to conduct camping, climbing or flight operations within Antarctica. The applications were submitted to NSF pursuant to regulations issued under the Antarctic Conservation Act of 1978.

DATES: Interested parties are invited to submit written data, comments, or views with respect to this permit application by Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene Kennedy at the above address or (703) 292-8030.

SUPPLEMENTARY INFORMATION: The National Science Foundation, as directed by the Antarctic Conservation Act of 1978 (Pub. L. 95-541), as amended by the Antarctic Science, Tourism and Conservation Act of 1996, has developed Antarctic Waste Regulations, 45 CFR part 671, that requires all U.S. citizens and entities to obtain a permit for the use or release of a designated pollutant in Antarctica, and for the release of waste in Antarctica.

The waste permit applications received are as follows:

1. Applicant: Michael J. Kibecki, 3377 E. Oakledge Road, Salt Lake City, UT 84121. Permit Application No. 2006 WM-001.

Activity for Which Permit Is Requested: The applicant makes this application for a Waste Management Permit for the use and release of designated pollutants. The applicant along with approximately 2 others will establish a temporary camp in Wohlthat Mountains, Orving Fjella Range, Antarctica in order to ski tour the area and mountain climb. The camp will be established for an approximately five-week period, after which it will be removed. Approximately 15 gallons of white gas (Naphtha Petroleum) will be used for cooking. The fuel will be stored Mountain Safety Research metal fuel bottles. Plastic sinks/catch basins will be used when transferring fuel between bottles. These items will be secured and stove boards will absorb any fuel leaks. If fuel is spilled, the contaminated ice and snow will be contained for return to Cape Town. Daily inspections will be conducted to ensure items are secure. All solid human, paper, kitchen wastes will be removed from Antarctica.

Location: Wohlthat Mountains, Orving Fjella Range, Antarctica.

Dates: November 25, 2005 to January 6, 2006.

2. Applicant: Ralph Fedor, 2337 Granite View Road, Waite Park, MN 56387. Permit Application No. 2006 WM—002.

Activity for Which Permit Is Requested: The applicant along with approximately 20 others will establish a temporary camp on Peter 1st Island using several Weather Haven shelters for sleeping, cooking and eating, and two small lab or work areas. The camp will be established for approximately 2.5 weeks, after which it will be removed. Propane tanks for cooking and 55 gallon drums of unleaded gas will be used to operate electric generators. These items will be secured and have tarps underneath to contain any possible spills. Daily inspections will be conducted to ensure items are secure. All human, paper, kitchen wastes will be removed from Antarctica. All items brought ashore will be returned to the ship for proper disposition.

Location: Peter I Island.

Dates: February 1, 2006 to March 1, 2006.

2. Applicant: Gustavus A. McLeod, 21717 Glendalough Road, Gaithersburg, MD 20882. Permit Application No. 2006 WM—003.

Activity for Which Permit Is Requested: The applicant is an aviator and leader of an expedition to fly to the South Pole and makes this application for a Waste Management Permit for the use and release of designated pollutants. The applicant plans to fly solo in a Firefly aircraft from South America, land at Marambio Station to refuel, then fly round-trip to South Pole returning to Marambio, then onward to South America. Other than Marambio Station the applicant does not plan to make other landings in Antarctica and will not establish any camps.

Location: Marambio Station and Antarctic continent.

Dates: November 15, 2005 to February 15, 2006.

Nadene G. Kennedy,
Permit Officer.

[FR Doc. 05-19040 Filed 9-22-05; 8:45 am]

BILLING CODE 7555-02-M